DEPARTMENT OF AGRICULTURE

Rural Telephone Bank

Board Approval of Liquidation and Dissolution of the Bank

AGENCY: Rural Telephone Bank, USDA.

ACTION: Notice of Board approval of liquidation and dissolution of the Rural Telephone Bank.

SUMMARY: In a meeting held August 4, 2005, the Board of Directors (Board) of the Rural Telephone Bank (Bank) approved resolutions to liquidate and dissolve the Bank, subject to lifting of the current statutory restriction limiting the amount of Government-owned Class A stock that the Bank can redeem. This notice is being published to ensure that all interested parties are informed of the details of the resolutions approved by the Board.

FOR FURTHER INFORMATION CONTACT: Jonathan P. Claffey, Assistant Secretary, Rural Telephone Bank, STOP 1590—Room 5151, 1400 Independence Avenue, SW., Washington, DC 20250-1590. Telephone: (202) 720-9556.

SUPPLEMENTARY INFORMATION: In a special meeting held on March 11, 2005, and during its regularly scheduled meeting held on May 4, 2005, the Board discussed the possibility of liquidating and dissolving the Bank. In its meeting on August 4, 2005, a resolution to liquidate and dissolve the Bank was passed unanimously by the Board. The full text of the resolution is presented with this notice including two attachments referenced within the resolution.

BILLING CODE 3410-15-P

Additional information regarding the progress of the liquidation and dissolution of the Bank can be found at the Bank's Web site at http://www.usda.gov/rus/telecom/rtb/index_rtb.htm.

Dated: August 12, 2005.
Jonathan P. Claffey,
Assistant Secretary, Rural Telephone Bank.

[FR Doc. 05-16338 Filed 8-17-05; 8:45 am]

BILLING CODE 3410-15-C